DEPARTMENT OF DEFENSE

Defense Acquisition Regulations System

48 CFR Chapter 2

RIN 0750-AG00

Defense Federal Acquisition Regulation Supplement; Small Business Program Name Change (DFARS Case 2008-D001)

AGENCY: Defense Acquisition Regulations System, Department of Defense (DoD).

ACTION: Final rule.

SUMMARY: DoD has issued a final rule amending the Defense Federal Acquisition Regulation Supplement (DFARS) to reflect the redesignation of the “Office of Small and Disadvantaged Business Utilization” to the “Office of Small Business Programs” within DoD. The redesignation resulted from Section 904 of the National Defense Authorization Act for Fiscal Year 2006.

DATES: Effective Date: August 12, 2008.

FOR FURTHER INFORMATION CONTACT: Ms. Deborah Tronic, Defense Acquisition Regulations System, OUSD (AT&L) DPAP (DARS), IMD 3D139, 3062 Defense Pentagon, Washington, DC 20301-3062. Telephone 703-602-0289; facsimile 703-602-7887. Please cite DFARS Case 2008-D001.

SUPPLEMENTARY INFORMATION:

A. Background

Section 904 of the National Defense Authorization Act for Fiscal Year 2006 (Pub. L. 109-163) redesignated the “Office of Small and Disadvantaged Business Utilization” to the “Office of Small Business Programs” for DoD. This final rule amends the DFARS to reflect the redesignation.

This rule was not subject to Office of Management and Budget review under Executive Order 12866, dated September 30, 1993.

B. Regulatory Flexibility Act

This rule will not have a significant cost or administrative impact on contractors or offerors, or a significant effect beyond the internal operating procedures of DoD. Therefore, publication for public comment under 41 U.S.C. 418b is not required. However, DoD will consider comments from small entities concerning the affected DFARS subparts in accordance with 5 U.S.C. 610. Such comments should cite DFARS Case 2008-D001.

C. Paperwork Reduction Act

The Paperwork Reduction Act does not apply, because the rule does not impose any information collection requirements that require the approval of the Office of Management and Budget under 44 U.S.C. 3501, et seq.

List of Subjects in 48 CFR Parts 219 and 252

Government procurement.

Michele P. Peterson,
Editor, Defense Acquisition Regulations System.

Therefore, 48 CFR parts 219 and 252 and Appendix I to chapter 2 are amended as follows:

1. The authority citation for 48 CFR parts 219 and 252 and Appendix I to subchapter I continues to read as follows:

Authority: 41 U.S.C. 421 and 48 CFR Chapter 1.

PART 219—SMALL BUSINESS PROGRAMS

219.201 [Amended]

2. Section 219.201 is amended in paragraph (d) introductory text, and in paragraph (f) in the first and second sentences, by removing “Small and Disadvantaged Business Utilization” and adding in its place “Small Business Programs”.

219.1007 [Amended]

3. Section 219.1007 is amended in paragraph (b)(1), in the first sentence, by removing “Small and Disadvantaged Business Utilization” and adding in its place “Small Business Programs”.

219.7102 [Amended]

4. Section 219.7102 is amended in paragraph (d)(1)(ii) by removing “Small and Disadvantaged Business Utilization (SADBU)” and adding in its place “Small Business Programs (SBP)”.

219.7103-1 [Amended]

5. Section 219.7103-1 is amended in the second sentence by removing “SADBU” and adding in its place “SBP”.

219.7103-2 [Amended]

6. Section 219.7103-2 is amended in paragraphs (d)(1), (e)(3), and (f) by removing “SADBU” and adding in its place “SBP”.

PART 252—SOLICITATION PROVISIONS AND CONTRACT CLAUSES

7. Section 252.219-7004 is amended by revising the clause date and paragraph (c)(1) to read as follows:

252.219-7004 Small Business Subcontracting Plan (Test Program).

* * * * *

SMALL BUSINESS SUBCONTRACTING PLAN (TEST PROGRAM) (AUG 2008)

* * * * *

(c) * * *

(1) One copy of the SF 295 and attachments shall be submitted to Director, Small Business Programs, Office of the Under Secretary of Defense (Acquisition, Technology, and Logistics), 201 12th Street South, Suite 406, Arlington, VA 22202; and

* * * * *

Appendix I to Chapter 2—Policy and Procedures for the DOD Pilot Mentor-Protege Program

I-102 [Amended]

8. Appendix I to chapter 2 is amended in section I-102 as follows:

a. In paragraph (a)(1) by removing “Small and Disadvantaged Business Utilization (SADBU)” and adding in its place “Small Business Programs (SBP)”; and

b. In paragraph (f)(3) by removing “SADBU” and adding in its place “SBP”.

I-103 [Amended]

9. Appendix I to chapter 2 is amended in section I-103, in paragraph (b)(3), by removing “SADBU” and adding in its place “SBP”.

I-105 [Amended]

10. Appendix I to chapter 2 is amended in section I-105 as follows:

a. In paragraph (a), in the first sentence, by removing “SADBU” and adding in its place “SBP”; and

b. In paragraph (c) by removing “http://www.acq.osd.mil/sadbu/mentor_protege” and adding in its place “http://www.acq.osd.mil/osbp/mentor_protege/”.

I-107 [Amended]

11. Appendix I to chapter 2 is amended in section I-107, in paragraph (j) in the second sentence, by removing “SADBU” and adding in its place “SBP”.

I-108 [Amended]

12. Appendix I to chapter 2 is amended in section I-108, in paragraphs (c), (e), and (f), by removing “SADBU” and adding in its place “SBP”.

I-109 [Amended]

13. Appendix I to chapter 2 is amended in section I-109, in paragraph (c) in the second sentence, and in paragraph (d) in the first and second sentences, by removing “SADBU” and adding in its place “SBP”.

I-110.2 [Amended]

14. Appendix I to chapter 2 is amended in section I-110.2, in paragraph (a) introductory text, in paragraph (b) introductory text in the second sentence, and in paragraph (c), by removing “SADBU” and adding in its place “SBP”.

I-111 [Amended]

15. Appendix I to chapter 2 is amended in section I-111, in paragraph (a), by removing “SADBU” and adding in its place “SBP”.

I-112.2 [Amended]

16. Appendix I to chapter 2 is amended in section I-112.2 as follows:

a. In paragraph (d) by removing “http://www.acq.osd.mil/sadbu/mentor_protege” and adding in its place “http://www.acq.osd.mil/osbp/mentor_protege/”; and

b. In paragraphs (g)(1) and (2) by removing “SADBU” and adding in its place “SBP”.

I-113 [Amended]

17. Appendix I to chapter 2 is amended in section I-113, in paragraph (b), by removing “http://www.acq.osd.mil/sadbu/mentor_protege” and adding in its place “http://www.acq.osd.mil/osbp/mentor_protege/.”

[FR Doc. E8-18508 Filed 8-11-08; 8:45 am]

BILLING CODE 5001-08-P